DEPARTMENT OF AGRICULTURE

Deschutes Provincial Interagency Executive Committee (PIEC), Advisory Committee

AGENCY: Forest Service, USDA.

ACTION: Notice of meeting.

SUMMARY: The Deschutes PIEC Advisory Committee will meet on October 17, 2000 in the Chinook Conference Room at the Kah-Nee-Ta resort located approximately 14 miles east of Warm Springs, Oregon on 100 Main Street. Agenda items will include an Open Space Planning session starting at 0900 to assess where the committee would like to focus their future attention in the province, Info Sharing and a Public Forum from 4 pm till 4:30 pm. All Deschutes Province Advisory Committee Meetings are open to the public.

FOR FURTHER INFORMATION CONTACT: Mollie Chaudet, Province Liaison, USDA, Bend-Ft. Rock Ranger District, 1230 N.E. 3rd, Bend, OR 97701, Phone (541) 383-4769.

Leslie A.C. Weldon,
Forest Supervisor.

[FR Doc. 00-25320 Filed 10-2-00; 8:45 am]

BILLING CODE 3410-11-M